DEPARTMENT OF HOMELAND SECURITY

[Docket No. DHS-2017-0071]

Privacy Act of 1974; System of Records

AGENCY: Privacy Office, Department of Homeland Security.

ACTION: Notice of modified privacy act system of records.

SUMMARY: In accordance with the Privacy Act of 1974, the U.S. Department of Homeland Security (DHS) proposes to modify and reissue a current DHS Immigration and Customs Enforcement (ICE) system of records titled, “Department of Homeland Security (DHS)/U.S. Immigration and Customs Enforcement (ICE)-013 Alien Health Records System.” This system of records allows the Department to maintain records that document the health screening, examination, and treatment of aliens arrested by the Department and detained by ICE for civil immigration purposes in facilities where the ICE Health Service Corps (IHSC) provides or oversees the provision of care. As a result of a review of this system, the Department is updating this system of records to include two new routine uses to describe how the Department may share information from this system. The purpose of this system is also being updated to include the new IHSC Patient Medical Record Portal (the “Portal”), whereby individuals discharged from Immigration and Customs Enforcement facilities (either released from custody or removed from the United States) can log in and get a copy of their electronic medical record. As a result, a new category of records is being maintained in this system of records to support login capability for the Patient Medical Record Portal. Finally, this notice includes non-substantive changes to simplify the formatting and text of the previously published notice. This modified system will be included in the DHS inventory of record systems.

DATES: Submit comments on or before April 18, 2018. This modified system will be effective upon publication. New or modified routine uses are effective April 18, 2018.

ADDRESSES: You may submit comments, identified by docket number DHS-2017-0071 by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

FOR FURTHER INFORMATION CONTACT: For general questions, please contact: Amber Smith, ICEPrivacy@ice.dhs.gov, (202) 732-3300, Privacy Officer, U.S. Immigration and Customs Enforcement, Washington, DC, 20536-5600. For privacy questions, please contact: Philip S. Kaplan, Sam.Kaplan@hq.dhs.gov, (202) 343-1717, Chief Privacy Officer, Privacy Office, Department of Homeland Security, Washington, DC 20528-0655.

SUPPLEMENTARY INFORMATION:

I. Background

In accordance with the Privacy Act of 1974, 5 U.S.C. 552a, DHS ICE proposes to modify and reissue a current DHS system of records notice (SORN) titled, “DHS/ICE-013 Alien Health Records System.”

DHS is modifying the DHS/ICE-013 Alien Health Records SORN to add two new routine uses that will allow ICE to share information from the Alien Health Records system of records with the additional recipients for the specified purposes. DHS is also updating the purpose of this SORN to include the new IHSC Portal, whereby individuals discharged from ICE facilities (either released from custody or removed from the United States) can log in and get a copy of their electronic medical record. As a result, a new category of records is being maintained in this system of records to support login capability for the Portal.

Records covered by this system of records is maintained by the IHSC, a division within ICE's Office of Enforcement and Removal Operations (ERO). (Note: IHSC was previously known as the Division of Immigration Health Services (DIHS).) This system of records covers medical, mental health, and dental records that document the medical screening, examination, diagnosis, and treatment of aliens whom ICE detains for civil immigration purposes in facilities where IHSC provides or oversees the provision of medical care. It also covers information about prisoners of the U.S. Marshals Service (USMS) who are housed in a detention facility operated by or on behalf of ICE pursuant to agreements with the USMS, and where IHSC provides or oversees the provision of medical care. IHSC provides necessary and appropriate medical, mental health, and dental care to ICE detainees. IHSC medical staff may also procure consultation, diagnostic, treatment, or procedural services that IHSC deems necessary and appropriate from external health care providers in facilities outside of IHSC. Medical information is typically shared with other health care providers to ensure a detainee's continuity of care. Information about individuals with infectious diseases of public health significance may be shared with public health officials in order to prevent exposure to or transmission of the disease.

New routine uses, EE. and FF., have been added to allow ICE to share information covered by this SORN to third-parties for processing payments and for redress, respectively. Routine use GG., previously routine use EE., has been updated to simplify the formatting and text of the previously published notice.

In addition, a new category of records has been added in support of the newly-developed Portal. The Portal permits individuals discharged from ICE custody to access a copy of their electronic medical record for a period of up to 12 months after they are discharged. Logging into the Portal requires former ICE detainees to enter a unique username and password that ICE provides to the alien upon discharge from the detention facility. The login credentials have been added in the “Categories of Records” section below.

Finally, IHSC is not subject to the provisions of the Health Insurance Portability and Accountability Act of 1996 (HIPAA) regulation, “Standards for Privacy of Individually Identifiable Health Information” (Privacy Rule), within 45 CFR parts 160 and 164. IHSC does not meet the statutory definition of a covered plan under HIPAA, 42 U.S.C. 1320d(5), and is specifically excluded from the application of HIPAA as a “government funded program . . . [w]hose principal activity is [t]he direct provision of healthcare to persons,” 45 CFR 160.103 (definition of a health plan). Because IHSC is not a covered entity, the restrictions prescribed by the HIPAA Privacy Rule are not applicable.

Consistent with DHS's information sharing mission, information covered by the DHS/ICE-013 Alien Health Records system SORN may be shared with other DHS Components that have a need to know the information to carry out their national security, law enforcement, immigration, intelligence, or other homeland security functions. In addition, DHS/ICE may share information with appropriate federal, state, local, tribal, territorial, foreign, or international government agencies consistent with the routine uses set forth in this SORN.

This modified system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, and similarly, the Judicial Redress Act (JRA) provides covered persons with a statutory right to make requests for access and amendment to covered records, as defined by the JRA, along with judicial review for denials of such requests. In addition, the JRA prohibits disclosures of covered records, except as otherwise permitted by the Privacy Act.

Below is the description of the DHS/ICE-013 Alien Health Records System SORN. In accordance with 5 U.S.C. 552a(r), DHS has provided a report of this system of records to the Office of Management and Budget and to Congress.

SYSTEM NAME AND NUMBER

Department of Homeland Security (DHS)/U.S. Immigration and Customs Enforcement (ICE)-013 Alien Health Records System.

SECURITY CLASSIFICATION:

Unclassified, For Official Use Only.

SYSTEM LOCATION:

Records are maintained in the ICE electronic health records (eHR) system and at detention facilities where care is provided by the ERO IHSC. IHSC provides care to aliens in all Service Processing Centers, which are ICE-operated facilities; at most contract detention facilities, which are owned and operated by a private company with which ICE contracts for detention services; and in some Intergovernmental Service Agreement (IGSA) facilities. IGSAs are facilities operated by a city, county, or state government, and ICE contracts with them for detention services, leases bed space, or both from them. Records are also maintained at ICE Headquarters in Washington, DC, and at ICE ERO field offices.

SYSTEM MANAGER(S):

Assistant Director, ICE Health Service Corps, Enforcement and Removal Operations, U.S. Immigration and Customs Enforcement, 500 12th Street SW, Washington, DC 20536.

AUTHORITY FOR MAINTENANCE OF THE SYSTEM:

5 U.S.C. 301; 44 U.S.C. 3101; 8 U.S.C. 1103, 1222, and 1231; and 42 U.S.C. 249.

PURPOSE(S) OF THE SYSTEM:

The purpose of this system is to document and facilitate the provision of medical, dental, and mental health care to individuals in ICE custody in facilities where care is provided by IHSC. The system also supports the collection, maintenance, and sharing of medical information for these individuals in the interest of public health, especially in the event of a public health emergency, such as an epidemic or pandemic. Finally, this system facilitates continuity of care after individuals are discharged from ICE facilities by providing individuals with direct access to their records and disclosing records to other parties (e.g., medical providers), as appropriate.

CATEGORIES OF INDIVIDUALS COVERED BY THE SYSTEM:

Two categories of individuals are covered by this system. The first category is aliens detained by ICE for civil immigration purposes. These aliens have been booked into a detention facility where IHSC provides or oversees the provision of medical care. The second category is prisoners in the custody of the U.S. Marshals Service (USMS) who are being detained in facilities operated by or on behalf of ICE pursuant to agreements made with the USMS and who also receive medical care from IHSC. Hereafter, the term “in ICE custody” will be used to refer to both the aliens detained by ICE who receive medical care from IHSC, and the USMS prisoners being housed in IHSC-staffed detention facilities.

CATEGORIES OF RECORDS IN THE SYSTEM:

Categories of records in this system include:

• Individual's name and aliases;

• Date of birth;

• Alien Registration Number (A-Number);

• USMS or Federal Bureau of Prisons Registration Number (if applicable);

• Phone numbers;

• Email addresses;

• Addresses;

• Country of Origin and Country of Citizenship;

• Nationality;

• Gender/Sex;

• Languages spoken;

• Medical history (self and family to establish medical history);

• Current medical conditions and diagnoses;

• Symptoms reported, including dates;

• Medical examination records and medical notes;

• Medical and mental health records and treatment plans;

• Dental history and records, including x-rays, treatment, and procedure records;

• Diagnostic data, such as tests ordered and test results;

• Problem list, which contains the diagnoses and medical symptoms or problems as determined by a medical practitioner or reported by the person;

• Records concerning the diagnosis and treatment of diseases or conditions that present a public health threat, including information about exposure of other individuals and reports to public health authorities;

• Correspondence related to an individual's medical, dental, and mental health care;

• External healthcare provider records (emergency room, hospitalizations, specialized care, records of previous medical care or testing) including medical or healthcare records received from other correctional systems or ICE detention facilities not staffed by IHSC;

• Payment authorizations for care provided by external healthcare providers and healthcare facilities;

• Evaluation records, including records related to mental competency evaluations;

• Prescription and over-the-counter drug records;

• Records related to medical grievances filed by individuals in ICE custody;

• Information about medical devices used by individuals such as hearing aids and pacemakers;

• Information about special needs and accommodations for an individual with disabilities, such as requiring a cane, wheelchair, special shoes, or needing to sleep on a bottom bunk;

• Physician or other medical/dental provider's name and credentials such as medical doctor, registered nurse, and Doctor of Dental Science;

• Refusal forms;

• Informed consent forms;

• Legal documents, such as death certificates, do-not-resuscitate orders, or advance directives (e.g., living wills); and

• Login credentials used to access the Portal.

RECORD SOURCE CATEGORIES:

Records are obtained from the individual, immediate family members, physicians, nurses, dentists, medical laboratories and testing facilities, hospitals, other medical and dental care providers, other law enforcement or custodial agencies, other detention facilities, and public health agencies.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agency conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS determines that information from this system of records is reasonably necessary and otherwise compatible with the purpose of collection to assist another federal recipient agency or entity in (1) responding to a suspected or confirmed breach or (2) preventing, minimizing, or remedying the risk of harm to individuals, the recipient agency or entity (including its information systems, programs, and operations), the Federal Government, or national security, resulting from a suspected or confirmed breach; or

2. DHS suspects or has confirmed that there has been a breach of this system of records; and (a) DHS has determined that as a result of the suspected or confirmed breach, there is a risk of harm to individuals, DHS (including its information systems, programs, and operations), the Federal Government, or national security; and (b) the disclosure made to such agencies, entities, and persons is reasonably necessary to assist in connection with DHS's efforts to respond to the suspected or confirmed breach or to prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To hospitals, physicians, medical laboratories and testing facilities, and other medical service providers, for the purpose of diagnosing and treating medical conditions or arranging the care of individuals in ICE custody and of individuals released or about to be released from ICE custody including, released under an order of supervision, on their own recognizance, on bond, on parole, or in another alternative to detention program.

I. To prospective claimants and their attorneys for the purpose of negotiating the settlement of an actual or prospective claim against DHS or its current or former employees, in advance of the initiation of formal litigation or proceedings.

J. To immediate family members and attorneys or other agents acting on behalf of an alien to assist those individuals in determining the current medical condition of an alien in ICE custody, provided they can present adequate verification of a familial or agency relationship with the alien.

K. To federal, state, local, tribal, territorial, or foreign governmental agencies; multilateral governmental organizations; or other public health entities, for the purpose of protecting the vital interests of a record subject or other persons, including to assist such agencies or organizations during an epidemiological investigation, in facilitating continuity of care, preventing exposure to or transmission of a communicable or quarantinable disease of public health significance, or to combat other significant public health threats.

L. To hospitals, physicians, and other healthcare providers for the purpose of protecting the health and safety of individuals who may have been exposed to a contagion or biohazard, or to assist such persons or organizations in preventing exposure to or transmission of a communicable disease, a disease that requires quarantine, or to combat other significant public health threats.

M. To individuals for the purpose of determining if they have had contact in a custodial setting with a person known or suspected to have a communicable disease or disease that requires quarantine and to identify and protect the health and safety of others who may have been exposed.

N. To the U.S. Marshals Service (USMS) concerning USMS prisoners who are or who will be held in detention facilities operated by or on behalf of ICE, and to federal, state, local, tribal, or territorial law enforcement or correctional agencies concerning an individual in ICE custody who is to be transferred to such agency's custody, in order to coordinate the transportation, custody, and care of these individuals.

O. To third parties to facilitate release or placement of an individual (e.g., at a group home, homeless shelter, with a family member) whose case is being considered or prepared for release from DHS custody, or who has been released from DHS custody, but only such information that is relevant and necessary to arrange housing, continuing medical care, or other social services for the individual.

P. To a domestic government agency or other appropriate healthcare authority for the purpose of providing information about an individual whose case is being considered or prepared for release from DHS custody or who has been released from DHS custody who, due to a condition such as mental illness, may pose a health or safety risk to himself/herself or to the community. DHS will only disclose health information about the individual that is relevant to the health or safety risk the individual may pose, or the means to mitigate that risk (e.g., the alien's need to remain on certain medication for a serious mental health condition).

Q. To foreign governments for the purpose of coordinating and conducting the removal or return of aliens from the United States to other nations when disclosure of information about the alien's health is necessary or advisable to safeguard the public health, to facilitate transportation of the alien, to obtain travel documents for the alien, to ensure continuity of medical care for the alien, or is otherwise required by international agreement or law. Disclosure of medical information may occur after the alien's removal when it is necessary or advisable to assist the foreign government with the alien's ongoing medical care.

R. To the Federal Bureau of Prisons and other government agencies for the purpose of providing health information about an alien when custody of the alien is being transferred from DHS to the other agency. This will include the transfer of information about unaccompanied minor children to the U.S. Department of Health and Human Services (HHS).

S. To state, local, tribal or territorial agencies or other appropriate authority for the purpose of reporting vital statistics (e.g., births, deaths).

T. To a public or professional licensing organization when such information indicates, either by itself or in combination with other information, a violation or potential violation of professional standards, or reflects on the moral, educational, or professional qualifications of a healthcare provider who is licensed or is seeking to become licensed.

U. To courts, magistrates, administrative tribunals, opposing counsel, parties, and witnesses, in the course of immigration, civil, or criminal proceedings (including discovery, presentation of evidence, and settlement negotiations) and when DHS determines that use of such records is relevant and necessary to the litigation before a court or adjudicative body when any of the following is a party to or have an interest in the litigation:

1. DHS or any component thereof;

2. Any employee or former employee of DHS in his/her official capacity;

3. Any employee or former employee of DHS in his/her individual capacity when the government has agreed to represent the employee; or

4. The United States, when DHS determines that litigation is likely to affect DHS or any of its components.

V. To an attorney or representative (as defined in 8 CFR 1.2, 292.1, 1001.1(f), or 1292.1) who is acting on behalf of an individual covered by this system of records in connection with any proceeding before U.S. Citizenship and Immigration Services (USCIS), ICE, or U.S. Customs and Border Protection (CBP) or the DOJ Executive Office for Immigration Review.

W. To international, foreign, intergovernmental, and multinational government agencies, authorities, and organizations in accordance with law and formal or informal international arrangements.

X. To a coroner for purposes of affirmatively identifying a deceased individual (whether or not such individual is deceased as a result of a crime), performance of an autopsy, or identifying cause of death.

Y. Consistent with the requirements of the Immigration and Nationality Act, to HHS, the Centers for Disease Control and Prevention (CDC), or to any state or local health authorities, to ensure that all health issues potentially affecting public health and safety in the United States are being, or have been, adequately addressed.

Z. To a former employee of DHS for purposes of responding to an official inquiry by federal, state, local, tribal, or territorial government agencies or professional licensing authorities; or facilitating communications with a former employee that may be relevant and necessary for personnel-related or other official purposes when DHS requires information or consultation assistance from the former employee regarding a matter within that person's former area of responsibility.

AA. To the U.S. Department of State when it requires information to consider or provide an informed response to a request for information from a foreign, international, or intergovernmental agency, authority, or organization about an alien or an enforcement operation with transnational implications.

BB. To federal, state, local, tribal, territorial, or foreign government agencies or entities or multinational government agencies when DHS desires to exchange relevant data for the purpose of developing, testing, or implementing new software or technology whose purpose is related to this system of records.

CC. To federal, state, local, tribal, territorial, or foreign government agencies, medical personnel, or other individuals when DHS desires to use de-identified data for illustrative or informative purposes in training, in presentations, or for other similar purposes.

DD. To medical and mental health professionals for the purpose of assessing an individual's mental competency before the DOJ Executive Office for Immigration Review.

EE. To third parties for the purpose of processing payment when external healthcare providers render medical services to individuals in ICE custody on behalf of ICE.

FF. To federal, state, local, tribal, territorial, international, or foreign government agencies or entities for the purpose of consulting with that agency or entity:

1. To assist in making a determination regarding redress for an individual in connection with the operations of a DHS component or program;

2. To verify the identity of an individual seeking redress in connection with the operations of a DHS component or program; or

3. To verify the accuracy of information submitted by an individual who has requested such redress on behalf of another individual.

GG. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/ICE stores records in this system electronically or on paper in secure facilities in a locked drawer behind a locked door. The records may be stored on magnetic disc, tape, digital media, and CD-ROM.

POLICIES AND PRACTICES FOR RETRIEVAL OF RECORDS:

Records may be retrieved by name, Alien Registration Number (A-Number), Subject ID, or USMS/Federal Bureau of Prisons Registration Number.

POLICIES AND PRACTICES FOR RETENTION AND DISPOSAL OF RECORDS:

NARA has approved ICE records schedules that outline the retention periods for detainee medical records. Consistent with the DAA-567-2015-002 and N1-567-08-001 records schedules:

(1) Medical records for an adult will be retained for ten (10) years after an individual has been released from ICE custody, and then shall be destroyed;

(2) Medical records about a minor will be retained until the minor has reached the age of twenty-seven (27) years in order to comply with state laws regarding the retention of medical records related to minors, and then shall be destroyed;

(3) Annual data on detainees who have died in ICE custody that has been transferred to the Bureau of Justice Statistics (BJS) and annual reports regarding infectious diseases will be retained for ten (10) years, and then destroyed;

(4) Various statistical reports will be retained permanently by NARA; and

(5) Monthly and annual statistical reports, including those regarding workload operations, will be destroyed when no longer needed for business purposes.

ICE is currently in the process of developing a records retention schedule with NARA for the various records covered by this SORN that consolidates DAA-567-2015-002 and N1-567-08-001.

ADMINISTRATIVE, TECHNICAL, AND PHYSICAL SAFEGUARDS:

DHS/ICE safeguards records in this system according to applicable rules and policies, including all applicable DHS automated systems security and access policies. ICE has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records may submit a request in writing to the ICE FOIA Officer, whose contact information can be found at http://www.dhs.gov/foia under “Contact Information.” If an individual believes more than one component maintains Privacy Act records concerning him or her, the individual may submit the request to the Chief Privacy Officer and Chief Freedom of Information Act Officer, Department of Homeland Security, Washington, DC 20528-0655. Even if neither the Privacy Act nor the Judicial Redress Act provides a right of access, certain records about you may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why the individual believes the Department would have information on him/her;

• Identify which component(s) of the Department the individual believes may have the information about him/her;

• Specify when the individual believes the records would have been created; and

• Provide any other information that will help the FOIA staff determine which DHS component agency may have responsive records;

• If an individual's request seeks records pertaining to another living individual, the first individual must include a statement from the second individual certifying his/her agreement for the first individual to access his/her records.

Without the above information, the component(s) may not be able to conduct an effective search, and the individual's request may be denied due to lack of specificity or lack of compliance with applicable regulations.

CONTESTING RECORD PROCEDURES:

For records covered by the Privacy Act or covered JRA records, see “Record Access Procedures” above. Individuals who wish to contest the accuracy of records in this system of records should submit these requests to the ICE Office of Information Governance and Privacy—Privacy Division. Requests must comply with verification of identity requirements set forth in Department of Homeland Security Privacy Act regulations at 6 CFR 5.21(d). Please specify the nature of the complaint and provide any supporting documentation. By mail (please note substantial delivery delays exist): ICE Office of Information Governance and Privacy—Privacy Division, 500 12th Street SW, Mail Stop 5004, Washington, DC 20536. By email: ICEPrivacy@ice.dhs.gov. Please contact the Privacy Division with any questions about submitting a request or complaint at 202-732-3300 or ICEPrivacy@ice.dhs.gov.

NOTIFICATION PROCEDURES:

See “Record Access Procedures.”

EXEMPTIONS PROMULGATED FOR THE SYSTEM:

None.

HISTORY:

80 FR 239 (Jan. 5, 2015); 74 FR 57688 (Nov. 9, 2009).

Philip S. Kaplan,
Chief Privacy Officer, Department of Homeland Security.

[FR Doc. 2018-05542 Filed 3-16-18; 8:45 am]

BILLING CODE 9111-28-P